DEPARTMENT OF HEALTH AND HUMAN SERVICES

Centers for Disease Control and Prevention (CDC)

[CDC-2013-0010, Docket Number NIOSH-265]

Survey of Nanomaterial Risk Management Practices

AGENCY: National Institute for Occupational Safety and Health (NIOSH) of the Centers for Disease Control and Prevention (CDC), Department of Health and Human Services (HHS).

ACTION: Proposed NIOSH Survey of Nanomaterial Risk Management Practices; Notice of Public Meeting and Request for Comments.

SUMMARY: The National Institute for Occupational Safety and Health (NIOSH) of the Centers for Disease Control and Prevention (CDC) announces a public meeting and opportunity for comment on a proposed NIOSH survey. The primary purpose of the survey is to evaluate the use of NIOSH guidelines and risk mitigation practices for safe handling of engineered nanomaterials (ENMs) in the workplace. Information collected from the survey will be useful in future revisions of the guidelines. The public is invited to comment on the proposed survey through a public docket and/or participation in a one-day public meeting.

To view the notice and related materials, visit http://www.regulations.gov and enter CDC-2013-0010 in the search field and click “Search.”

Public comment period: Submit either electronic or written comments by September 15, 2013.

Registration to attend the meeting must be received by July 17, 2013 and will be accepted on a first come first served basis. See the SUPPLEMENTARY INFORMATION section for information on how to register for the meeting.

ADDRESSES: The public meeting will be held at the NIOSH Alice Hamilton building, 5555 Ridge Avenue, Cincinnati, OH 45213. The public meeting will be held on July 31, 2013, from 8 a.m. to 3:00 p.m. EDT.

Security Considerations: Due to mandatory security clearance procedures at the NIOSH Alice Hamilton building, in-person attendees must present valid government-issued picture identification to security personnel upon entering the parking lot.

Non-U.S. citizens: Because of CDC Security Regulations, any non-U.S. citizen wishing to attend this meeting must provide the following information in writing to the NIOSH Docket Officer at the address below no later than June 29, 2013 to allow time for mandatory CDC facility security clearance procedures to be completed.

1. Name:

2. Gender:

3. Date of Birth:

4. Place of birth (city, province, state, country):

5. Citizenship:

6. Passport Number:

7. Date of Passport Issue:

8. Date of Passport Expiration:

9. Type of Visa:

10. U.S. Naturalization Number (if a naturalized citizen):

11. U.S. Naturalization Date (if a naturalized citizen):

12. Visitor's Organization:

13. Organization Address:

14. Organization Telephone Number:

15. Visitor's Position/Title within the Organization:

This information will be transmitted to the CDC Security Office for approval. Visitors will be notified as soon as approval has been obtained.

You may submit comments, identified by CDC-2013-0010 and Docket Number NIOSH-265, by either of the following two methods:

• Federal eRulemaking Portal: http://www.regulations.gov. Follow the instructions for submitting comments.

• Mail: NIOSH Docket Office, Robert A. Taft Laboratories, 4676 Columbia Parkway, MS C-34, Cincinnati, Ohio 45226.

Instructions: All information received in response to this notice must include the agency name and docket number (CDC-2013-0010; NIOSH-265). All relevant comments received will be posted without change to http://www.regulations.gov, including any personal information provided. All electronic comments should be formatted as Microsoft Word. Please make reference to CDC-2013-0010 and Docket Number NIOSH-265.

SUPPLEMENTARY INFORMATION: Attendance: The meeting is open to the public, limited only by the capacity (80) of the conference room. Confirm your attendance to this meeting by sending an email to jun1@cdc.gov by July 17, 2013. An email confirming registration will be sent from NIOSH and will include details needed to participate. Oral comments given at the meeting will be recorded and included in the NIOSH Docket Number 265.

Background: NIOSH is among the world's leaders in promoting the safe and responsible development and use of ENMs. NIOSH has published guidelines on the safe use of ENMs including “Approaches to Safe Nanotechnology: Managing the Health and Safety Concerns Associated with Engineered Nanomaterials” (http://www.cdc.gov/niosh/docs/2009-125/pdfs/2009-125.pdf) and “General Safe Practices for Working With Engineered Nanomaterials in Research Laboratories” (http://www.cdc.gov/niosh/docs/2012-147/pdfs/2012-147.pdf). Other organizations in the U.S. and around the world have also developed guidelines for the safe use of ENMs. The proposed survey will examine the extent to which these and other guidelines are implemented and the barriers to using the guidelines.

A draft questionnaire is available for review at http://www.regulations.gov.

NIOSH requests public input on the content of the questionnaire and consideration of the following:

(1) Apart from a survey, what alternative methods should be considered to gather this information?

(2) What resources are available that can be used to identify nanomaterial producers, distributors, end-users, and R&D laboratories for inclusion in a sampling frame?

(3) A web-based survey is being proposed primarily because it is cost-efficient and can be easy to administer. Should any other modes (telephone, mail) be considered?

(4) In small and medium-sized establishments, who would be the person best suited to respond to questions addressing risk management practices for ENMs?

(5) What should be the maximum amount of time needed to complete the survey?

(6) Is benchmarking adherence to safe use guidelines of value to your organization?

(7) What guidelines are being used by your organization to minimize worker exposure to ENMs?

(8) Are there any questions in the draft survey that should be excluded? Are there any questions not included in the draft survey that should be included?

FOR FURTHER INFORMATION CONTACT: Jim Boiano—jboiano@cdc.gov; 513-841-4246 or Rebecca Tsai—rtsai@cdc.gov; 513-841-4398, NIOSH, 4676 Columbia Parkway, Mail Stop R17, Cincinnati, Ohio 45226-1998.

Dated: June 13, 2013.
John Howard,
Director, National Institute for Occupational Safety and Health, Centers for Disease Control and Prevention.

[FR Doc. 2013-14564 Filed 6-18-13; 8:45 am]

BILLING CODE 4163-19-P